DEPARTMENT OF TRANSPORTATION

Office of the Secretary

Aviation Proceedings, Agreements Filed During the Week Ending June 2, 2000

The following Agreements were filed with the Department of Transportation under the provisions of 49 U.S.C. 412 and 414. Answers may be filed within 21 days after the filing of the application.

Docket Number: OST-2000-7434.

Date Filed: May 30, 2000.

Parties: Members of the International Air Transport Association.

Subject: CTC COMP 0284 dated 26 May 2000, Expedited Resolution 002kk, Special Amending Resolution (Except USA/US Territories), Intended effective date: 1 August 2000.

Docket Number: OST-2000-7435.

Date Filed: May 30, 2000.

Parties: Members of the International Air Transport Association.

Subject: PTC31 SOUTH 0084 dated 26 May 2000, Expedited TC31 South Pacific Resolutions r1-r7, Intended effective date: 1 July 2000.

Dorothy Y. Beard,
Federal Register Liaison.

[FR Doc. 00-15085 Filed 6-14-00; 8:45 am]

BILLING CODE 4910-62-P